DEPARTMENT OF LABOR

Employment and Training Administration

[TA-W-50,311]

Relizon, Newark, OH; Notice of Termination of Investigation

Pursuant to section 221 of the Trade Act of 1974, as amended, an investigation was initiated on December 12, 2002 in response to a worker petition filed by a company official on behalf of workers at Relizon, Newark, Ohio.

The petitioners have requested that the petition be withdrawn. Consequently, the investigation has been terminated.

Signed at Washington, DC this 26th day of February 2003.
Richard Church,
Certifying Officer, Division of Trade Adjustment Assistance.

[FR Doc. 03-5416 Filed 3-6-03; 8:45 am]

BILLING CODE 4510-30-P